DEPARTMENT OF LABOR

Employment and Training Administration

[TA-W-50,730]

PPG Industries, Inc., Automotive Coating Division, Troy, MI; Notice of Negative Determination Regarding Application for Reconsideration

By application post marked on April 17, 2003, a petitioner requested administrative reconsideration of the Department's negative determination regarding eligibility for workers and former workers of the subject firm to apply for Trade Adjustment Assistance (TAA). The denial notice was signed on March 26, 2003 and published in the Federal Register on April 7, 2003 (68 FR 16833).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The TAA petition, filed on behalf of workers at PPG Industries, Inc., Automotive Coating Division, Troy, Michigan engaged in the production of pretreatment and specialty products, was denied because the “contributed importantly” group eligibility requirement of section 222(3) of the Trade Act of 1974, as amended, was not met. The “contributed importantly” test is generally demonstrated through a survey of the workers' firm's customers. The Department conducted a survey of the subject company's major customers regarding their purchases of pretreatment and specialty products. The survey revealed that none of the customers increased their import purchases of pretreatment and specialty products during the relevant period.

The petitioner alleges that the company shifted production to a company affiliate in Mexico. To support this, the petitioner provides what are described as “ship histories” dating back to 1997, alleging that these documents indicate products that were sent from the subject firm to the facility in Mexico. In addition, the petitioner indicates that production at the Mexican facility was “formulated and produced” at the Troy facility, and that the Troy facility “supplemented” the inventory at the Mexican facility.

A company official was contacted in regard to these allegations. Concerning the production conducted at the Mexican affiliate, the official confirmed that the Technical Division at the Troy facility had developed products that were later produced at the Mexican facility. The official also confirmed that there was similar production conducted at both facilities; however, the Mexican facility has exclusively served a foreign customer base with no overlap from the subject firm's customer base. As a result, there is no indication of a shift in production in this instance. In regard to the allegation that the Troy facility supplemented the inventory of the Mexican affiliate, a fact of this nature does not in and of itself provide proof of a shift in production. Further, when questioned on the issue of shipments from the subject firm to the Mexican affiliate, a company official stated that, having reviewed company invoices of shipments from the subject firm in the relevant period (specifically, 2001 and 2002), it was revealed that the Troy facility shipped a negligible amount of products to the Mexican affiliate. Finally, the official confirmed directly that there had not been a shift in production from the subject firm to the Mexican affiliate in the relevant period.

The petitioner also alleges that there was a shift in production from the subject firm to Canada in the relevant period.

In the initial investigation, a shift in production to Canada was acknowledged; however the shift was not considered significant. In the investigation pursuant to the reconsideration, the company official indicated that the shift in production to Canada represented a negligible portion of production at the subject plant, and was not projected to increase.

The petitioner further alleges that a specific product (Rinse Conditioner GL) was shifted to Canada.

The company official indicated that this product was temporarily shifted to Canada while the machinery in Euclid, Ohio was being set up. However, this production, in tandem with all other production shifted to Canada, was not considered significant.

Finally, the company official was asked to provided a detailed list of imports like or directly competitive with those produced at the Troy facility. The total volume of imports since 2001 is negligible relative to subject firm production, and thus could not have contributed importantly to layoffs at the subject firm.

Conclusion

After review of the application and investigative findings, I conclude that there has been no error or misinterpretation of the law or of the facts which would justify reconsideration of the Department of Labor's prior decisions. Accordingly, the application is denied.

Signed at Washington, DC this 23rd day of July, 2003.
Elliott S. Kushner,
Certifying Officer, Division of Trade Adjustment Assistance.

[FR Doc. 03-20115 Filed 8-6-03; 8:45 am]

BILLING CODE 4510-30-P